DEPARTMENT OF LABOR

Office of the Secretary

Combating Child Labor Through Education (Morocco, Uganda, Dominican Republic Timebound and the Philippines Timebound)

AGENCY: Bureau of International Labor Affairs, Department of Labor.

ACTION: Notice of availability of funds and solicitation for cooperative agreement applications (SGA 03-01).

SUMMARY: This notice contains all of the necessary information and forms needed to apply for cooperative agreement funding. The U.S. Department of Labor, Bureau of International Labor Affairs will award up to U.S. $14 million through one or more cooperative agreement(s) to an organization or organizations to improve access to quality education as a means to combat child labor in Morocco ($3 million), Uganda ($3 million), the Dominican Republic ($3 million) and the Philippines ($5 million). The activities funded will complement and expand upon existing projects and programs to improve basic education in these countries and provide access to basic education to children in areas of high incidence of exploitative child labor. Activities in the Dominican Republic and the Philippines will support and complement Timebound Programs to eliminate child labor being currently implemented in collaboration with the national governments and the International Program on the Elimination of Child Labor of the International Labor Organization (ILO/IPEC). Specific information on Timebound Programs is found in Section III.A of this document.

Applicants must submit a separate application for each country. If applications for countries are combined, they will not be considered.

DATES: The closing date for receipt of application is May 9, 2003. As discussed in Section II.B and C, applications must be received by 4:45 p.m. (Eastern Time) at the address below. No exceptions to the mailing, delivery, and hand-delivery conditions set forth in this notice will be granted. Applications that do not meet the conditions set forth in this notice will not be honored. Telegram, facsimile (FAX), and e-mail applications will not be honored.

ADDRESSES: Application forms will not be mailed. They are published as part of this Federal Register Notice, and in the Federal Register which may be obtained from your nearest U.S. Government office or public library or online at http://www.archives.gov/federal_register/index.html. Applications must be delivered to: U.S. Department of Labor, Procurement Services Center, 200 Constitution Avenue, NW., Room N-5416, Attention: Lisa Harvey, Reference: SGA 03-01, Washington, DC 20210. Applications sent by e-mail, telegram, or facsimile (FAX) will not be accepted. Applications sent by other delivery services, such as Federal Express, UPS, etc., will be accepted, however, the applicant bears the responsibility for timely submission.

FOR FURTHER INFORMATION CONTACT: Lisa Harvey. E-mail address: harvey-lisa@dol.gov. All applicants are advised that U.S. mail delivery in the Washington DC area has been slow and erratic due to concerns involving anthrax contamination. All applicants must take this into consideration when preparing to meet the application deadline. It is recommended that you confirm receipt of your application with your delivery service. See Section II.C for additional information.

SUPPLEMENTARY INFORMATION: The U.S. Department of Labor (USDOL), Bureau of International Labor Affairs (ILAB), announces the availability of funds to be granted by cooperative agreement (hereafter referred to as “grant”) to one or more qualifying organizations for the purpose of promoting school attendance in areas of high and exploitative child labor in Morocco and Uganda, and in areas where Timebound Programs in the Dominican Republic and the Philippines are underway. The grant or grants awarded under this initiative will be managed by ILAB's International Child Labor Program to assure achievement of the stated goals. Applicants are encouraged to be creative in proposing cost-effective interventions that will have a demonstrable impact in promoting school attendance in areas of those countries where children are engaged in or are most at risk of working in the worst forms of child labor.

I. Authority

ILAB is authorized to award and administer this program by Departments of Labor, Health and Human Services, and Education and Related Agencies Appropriations Act, 2002, Public Law 107-116, 115 Stat. 2177 (2002).

II. Application Process

A. Eligible Applicants

Any commercial, international, educational, or non-profit organization capable of successfully developing and implementing education programs for child laborers or children at risk in the countries of interest is eligible to apply. Partnerships of more than one organization are also eligible, and applicants are strongly encouraged to work with organizations already undertaking projects in the countries of interest, particularly local NGOs and faith based-organizations. In the case of partnerships, a lead organization to sign the agreement must be identified. The capability of an applicant or applicants to perform necessary aspects of this solicitation will be determined under Section V.B Rating Criteria and Selection.

Please note that eligible grant applicants must not be classified under the Internal Revenue Code as a 501(c)(4) entity. See 26 U.S.C. 501(c)(4). According to the Lobbying Disclosure Act of 1995, as amended by 2 U.S.C. 1611, an organization, as described in section 501(c)(4) of the Internal Revenue Code of 1986, that engages in lobbying activities will not be eligible for the receipt of federal funds constituting an award, grant, or loan.

B. Submission of Applications

One (1) ink-signed original, complete application in English plus two (2) copies (in English) of the application, must be submitted to the U.S. Department of Labor, Procurement Services Center, 200 Constitution Avenue, NW., Room N-5416, Washington, DC 20210, not later than 4:45 p.m. Eastern Time, May 9, 2003. Applicants may submit applications for one or more countries. In the case where an applicant is interested in applying for a grant in more than one country, a separate application must be submitted for each country.

The application must consist of two (2) separate parts. Part I of the application must contain the Standard Form (SF) 424 “Application for Federal Assistance” and sections A-F of the Budget Information Form SF 424A, available from ILAB's Web site at http://www.dol.gov/ILAB/grants/education/SGA0301/bkgrdSGA0301.htm. Copies of these forms are also available online from the GSA Web site at http://contacts.gsa.gov/webforms.nsf/0/B835648D66D1B8F985256A72004C58C2/$file/sf424.pdf and http://contacts.gsa.gov/webforms.nsf/0/5AEB1FA6FB3B832385256A72004C8E77/$file/Sf424a.pdf. Part II must contain a technical application that demonstrates capabilities in accordance with the Statement of Work (Section IV.A) and Rating Criteria (Section V.B).

To be considered responsive to this solicitation, the application must consist of the above-mentioned separate sections not to exceed 45 single-sided (8½″ × 11″), double-spaced, 10 to 12 pitch typed pages for each country, following the format presented in the Statement of Work (Section IV.A) and Rating Criteria (Section V.B). This requirement includes a project document submitted in the format shown in Appendix A. Any applications that do not conform to these standards may be deemed non-responsive to this solicitation and may not be evaluated. Standard forms and attachments are not included in the page limit. Each application must include a table of contents and an abstract summarizing the application in not more that two (2) pages. These pages are also not included in the page limits.

The individual signing the SF 424 on behalf of the Applicant must be authorized to bind the Applicant.

C. Acceptable Methods of Submission

The grant application package must be received at the designated place by the date and time specified or it will not be considered. Any application received at Procurement Services Center after 4:45 p.m. Eastern Time, May 9, 2003, will not be considered unless it is received before the award is made and:

1. It is determined by the Government that the late receipt was due solely to mishandling by Government after receipt at the U.S. Department of Labor at the address indicated;

2. It was sent by registered or certified mail not later than the fifth calendar day before May 9, 2003; or

3. It was sent by U.S. Postal Service Express Mail Next Day Service-Post Office to Addressee, not later than 5:00 pm at the place of mailing two (2) working days, excluding weekends and Federal holidays, prior to May 9, 2003.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped, or otherwise placed impression (not a postage meter machine impression) that is readily identifiable without further action as having been applied and affixed by an employee of the U.S. Postal Service on the date of mailing. Therefore, applicants should request that the postal clerk place a legible hand cancellation “bull's-eye” postmark on both the receipt and the envelope or wrapper.

The only acceptable evidence to establish the date of mailing of a late application sent by U.S. Postal Service Express Mail Next Day Service-Post Office to Addressee is the date entered by the Post Office receiving clerk on the “Express Mail Next Day Service-Post Office to Addressee” label and the postmark on the envelope or wrapper on the original receipt from the U.S. Postal Service. “Postmark” has the same meaning as defined above. Therefore, applicants should request that the postal clerk place a legible hand cancellation “bull's-eye” postmark on both the receipt and the envelope or wrapper.

The only acceptable evidence to establish the time of receipt at the U.S. Department of Labor is the date/time stamp of the Procurement Service Center on the application wrapper or other documentary evidence or receipt maintained by that office.

Applications sent by e-mail, telegram, or facsimile (FAX) will not be accepted. Applications sent by other delivery services, such as Federal Express, UPS, etc., will be accepted, however the applicant bears the responsibility for timely submission. Confirmation of receipt can be made with Lisa Harvey, U.S. Department of Labor, Procurement Services Center, telephone (202) 693-4570 (this is not a toll-free-number) or e-mail: harvey-lisa@dol.gov.

D. Funding Levels

Up to U.S. $14 million is available under this solicitation, with up to $3 million each for the Dominican Republic, Morocco, and Uganda, and up to $5 million for the Philippines. USDOL may award one or more grants to one, several, or a partnership of more than one organization which may apply to implement the program. Any subcontractor must be approved by USDOL.

E. Program Duration

The duration of the projects funded by this SGA is for four (4) years. The start date of program activities will be negotiated upon awarding of the grant, but no later than September 30, 2003.

III. Background and Program Scope

A. USDOL Support of Global Elimination of Child Labor

The International Labor Organization (ILO) estimated that 211 million children between the ages of five and 14 were working around the world in 2000. Full-time child workers are generally unable to attend school, and part-time child laborers balance economic survival with schooling from an early age, often to the detriment of their education. Since 1995, the U.S. Congress has provided USDOL with funds to support worldwide technical assistance programs implemented by the ILO. To date, USDOL has contributed U.S. $157 million to ILO/IPEC, making the United States the program's largest donor and a leader in global efforts to combat child labor.

Programs funded by USDOL have evolved from targeted action programs in specific sectors to a more comprehensive approach. In June 2001, at the International Labor Conference in Geneva, new programs were launched to effectively abolish the worst forms of child labor in a five-to-ten year time frame. These programs are called “Timebound Programs” and are a technical assistance modality designed to help countries eliminate the worst forms of child labor in a defined period of time. Timebound Programs provide aid to countries to support implementation of ILO Convention No. 182 on the Worst Forms of Child Labor.

Convention 182 lists four categories of the worst forms of child labor, and calls for immediate elimination of:

• All forms of slavery or practices similar to slavery, such as the sale and trafficking of children; debt bondage and serfdom and forced or compulsory labor; including forced or compulsory recruitment of children for use in armed conflict;

• The use, procurement or offering of a child for prostitution, production of pornography or pornographic performances;

• The use, procurement or offering of a child for illicit activities, in particular for the production and trafficking of drugs as defined in the relevant international treaties;

• Work which by its nature or by the circumstances by which it is carried out, is likely to harm the health, safety, and morals of children.

In determining the types of work likely to harm the health, safety and morals of children, Convention 182 considers the following: Work which exposes a child to physical, psychological or sexual abuse; work underground, underwater, at dangerous heights or in confined workplaces; work with dangerous machinery, equipment and tools or handling or transporting heavy loads; work in an unhealthy environment including exposure to hazardous substances, agents or processes, or to temperatures, noise levels or vibrations damaging to the health; work for long hours or night work where the child is unreasonably confined to the premises.

The Timebound Program is designed to be a country-owned initiative. Participation implies commitment by a country to mobilize and allocate national human and financial resources to combat child labor. USDOL-supported programs assist governments in this process by identifying and supporting projects, measures, interventions, institutional mechanisms, and partnerships required to eliminate the worst forms of child labor.

Between FY 2001 and FY 2003, in addition to U.S. $135 million earmarked for ILO/IPEC efforts, U.S. $111 million was appropriated to USDOL for a Child Labor Education Initiative to fund programs aimed at increasing access to quality, basic education in areas with a high incidence of abusive and exploitative child labor. The grant(s) awarded under this solicitation will be funded through this initiative.

USDOL's Child Labor Education Initiative seeks to nurture the development, health, safety and enhanced future employability of children around the world by increasing access to basic education for children removed from work or at risk of entering into labor. Child labor elimination depends in part on improving access to, quality of, and relevance of education.

The Child Labor Education Initiative has four goals:

1. Raise awareness of the importance of education for all children and mobilize a wide array of actors to improve and expand education infrastructures;

2. Strengthen formal and transitional education systems that encourage working children and those at risk of working to attend school;

3. Strengthen national institutions and policies on education and child labor; and

4. Ensure the long-term sustainability of these efforts.

B. Barriers to Education for Working Children and Country Background

1. Child Labor and Barriers of Access to Education

Throughout the world there are complex causes to child labor as well as barriers to education for children engaged in or at risk of working. These include:

• Poverty—whereby families need children's income for survival, there is a high opportunity cost to enrolling a child in school, and the direct and indirect costs of schooling are unaffordable.

• Education system barriers—which include low quality and relevance of education and curricula; low teacher training/preparation of school personnel to address education of children with special needs, such as child laborers; poor teaching methods; lack of or weak systems to address reintegration of dropouts, or to provide equivalency and/or bridge programs between non-formal and formal or vocational education.

• Infrastructure barriers—which include distance to school; inadequate school buildings (too small, too few primary, secondary or vocational schools); overcrowded schools; lack of open spaces for physical activity and related facilities; lack of transportation; lack of latrines, water, electricity and other basic infrastructure.

• Legal and policy barriers—which include policies that discourage school enrollment and retention, weak law enforcement, or non-existent, inconsistent or inadequate education policies for working children.

• Resource gaps—which include either overall low level of resources within the country, or a low allocation of existing resources relative to the needs of working children, or to child labor eradication or education goals set by government policies.

• Institutional barriers—which include weaknesses that hamper an organization's ability to effectively implement programs, and/or limited coordination among social partners (various level of government, NGOs, private sector) to match existing resources to education gaps and needs of working children.

• Informational gaps—which include lack of information on the education needs of child laborers or their educational performance so as to develop relevant and targeted programs; lack of available relevant social indicator data to identify, target and map families with working children; lack of consistent monitoring and evaluation of programs to draw lessons learned, or limited awareness on the part of different actors of the benefits of education for working children.

• Demographic characteristics of children and/or families—which include factors that put a child at higher risk of child labor and lack of access to education, such as belonging to an ethnic group, gender or social class, family composition (e.g., single head of household or polygamous household, multiple siblings, etc.), being overage relative to grade.

• Cultural and traditional practices—which include community attitudes that children should work and help the family, and attitudes and practices towards gender and social roles.

• Weak labor markets and lack of employment for those more educated, which diminish the perceived value of an education, and increase the value of early entry into the labor market.

Although these elements and characteristics tend to exist throughout the world in areas of high child labor, they manifest themselves and/or combine in particular ways in each country of interest in this solicitation. In their response to the solicitation, applicants should be able to identify the specific barriers to education and the education needs of specific children targeted in their project (e.g., children withdrawn from work, children at high risk of drop out into the labor force, children still working in a particular sector, etc.). Short background information on education and child labor in each of the countries of interest is provided below. For additional information on child labor in these countries, applicants are referred to The Department of Labor's 2001 Findings on the Worst Forms of Child Labor available at http://www.dol.gov/ILAB/media/reports/iclp/tda2001/overview.htm or in hard copy from Lisa Harvey, U.S. Department of Labor, Procurement Services Center, telephone (202) 693-4570 (this is not a toll-free-number) or e-mail: harvey-lisa@dol.gov.

2. Country Background

The Dominican Republic

The Dominican Republic's National Child Labor Survey (Encuesta Nacional de Trabajo Infantil), published in 2002, estimated that 18 percent of children between the ages of five and 17 years (428,720) are working. The major sectors where children work are agriculture, services in the informal sector (shoe shiners, street vendors), domestic service, and prostitution. In addition, reports indicate that Haitian children may be found working in the Dominican Republic on sugarcane plantations and in other hazardous occupations, and have documentation and likely language barriers to education. There are also reports that some Haitian children have been trafficked to the Dominican Republic, including for purposes of child labor.

Between 1992 and 2002, the Dominican Secretariat of Education (Secretaría de Estado de Educacín) engaged in a ten-year reform program (Plan Decenal) that included goals of increasing educational access, improving quality, implementing curriculum reform, improving the social and economic conditions of teachers, approving a new education law, decentralization, increased community participation, and increased financial resources. The plan, funded by the World Bank and the Inter-American Development Bank, greatly increased educational access for more children, but improvements are still needed in the areas of educational quality, teacher training, teacher living conditions, implementation of the education law, parent/community participation, and budget. Basic education in the Dominican Republic is free and compulsory between the ages of five and 14.

In spite of large investments in the education system, many gaps and challenges remain that hamper efforts to prevent child labor through education, and provide access to education for child laborers. These include a highly centralized education administration, lack of school access in rural areas, lack of vocational schools, and a less than adequate system for measuring and monitoring education results.

Moreover, lack of official identity papers and documentation are serious barriers to school enrollment and affects thousands of children most vulnerable to child labor—rural children, and those of Haitian descent. Several programs have been developed to address the problem of lack of documentation, but none has been broadly successful.

Many Dominican teachers lack motivation to improve their teaching style or to comply with school schedules because of low salaries. Teacher strikes for higher pay are frequent. Time in-class and time spent on learning tasks are lower in the Dominican Republic than in most other Latin American countries. Teachers in rural areas may also miss school because of transportation difficulties. In most Dominican classrooms there is a lack of active, participatory, student-centered pedagogy. Also, teachers are not prepared to deal with children with special needs such as those of working children, and children at risk of or engaged in commercial sexual exploitation.

There are limited alternatives to the public schools since there are few NGOs specializing in education. Also, Dominican NGOs operate under an obsolete law dating from 1920. Furthermore, the high levels of overage students relative to grade discourages many children from continuing altogether, and results in permanent desertion and premature entry into labor.

The Government of the Dominican Republic has committed itself to the implementation of a Timebound Program to eliminate the worst forms of child labor. The funding provided by this award will provide resources for the education component of the Timebound Program funded by USDOL and implemented through the ILO/IPEC.

Morocco

According to a 1999 diagnostic by the Ministry of Employment and the ILO, there are approximately 9.8 million children in Morocco under the age of 15, and approximately 6.5 percent of children in this age group work. About 90 percent of working children are in rural areas in the agriculture sector, often in animal husbandry and other agricultural tasks. Children also work as weavers in the carpet industry; in small family-run workshops that produce ceramics, woodwork, and leather goods; and as mechanics, porters, tourist guides, street vendors, and beggars. Children work as apprentices before they reach 12 years of age, particularly in the informal handicraft industry. In urban areas, girls work as domestic servants, often in situations of unregulated “adoptive servitude,” and teenagers are reported to engage in prostitution. Street children engage in diverse forms of work including selling cigarettes, begging, shining shoes and other miscellaneous occupations. It is estimated that 90 percent of working children are between the ages of 10 and 14, and 50 percent are victims of abuse and work more than 50 hours a week.

Morocco has identified education as a major component of the national and sectoral plans to combat child labor produced by the Ministry of Employment. It has also outlined its strategy for education reform in a national Charter that focuses on increasing educational access, reducing educational disparities, and involving different social sectors in partnerships for education. Education is free and compulsory between the ages of six and 15. The government has targeted universal primary enrollment by 2005-2006, and universal secondary education by 2008-2009.

Despite the progress made in increasing access to basic education in Morocco, the Ministry of National Education estimates that approximately 2 million children between the ages of eight and 16 have either never attended school or dropped out before completing the first level. The ILO/IPEC estimates that 80 percent of working children in Morocco are out of school. Ensuring their access to education will need to be addressed if Morocco is to meet its national goal of enrolling all children aged 12-14 in secondary school by 2008-2009. The Ministry of National Education's Non-Formal Program, working in partnership with an active NGO community, has reached only approximately 113,545 children aged eight to 15 since 1997. Although 70 percent of children who enter the non-formal program complete it, only about 10 percent transition into the formal system. The Government of Morocco has recently created a State Secretariat for Literacy and Non-Formal Education to address many of the issues facing out-of-school children.

The funding provided by this solicitation will contribute to addressing these important challenges. Applicants are strongly encouraged to address their efforts to areas of the highest concentrations of child labor (i.e., agriculture), and sectors in rural and urban areas with the worst forms of child labor.

The Philippines

Child labor in the Philippines is set primarily in the context of poverty, with 31.8 percent of Filipino families living below the poverty line in 1997, compared to 33.7 percent in 2000. The increase in the number of families living in poverty has contributed to the rise in the number of working children. In 2001, the Philippine National Statistics Office estimated that 4 million children between the ages of five and 17 were working, or 16.2 percent of children in this age group. This figure accounts for a 12 percent increase in the number of working children since 1995.

Children work predominantly in rural areas. Almost half of all child workers are engaged in agricultural activities, while other children work in informal footwear production, drug trafficking, pyrotechnics production, deep-sea fishing, mining and quarrying, and pearl farming. In the informal sector children are engaged in scavenging and begging. Children are also engaged as domestic servants and are involved in the commercial sex industry.

Since 1991, the Education for All (EFA) strategy has been a cornerstone of the Philippine's plan of action to improve the public education system, but government plans to address the particular needs of working children are limited. There are numerous gaps in the public education system and other socio-cultural or institutional barriers that may prevent children engaged in or at risk of working in the worst forms of child labor from receiving quality and relevant basic education. While significant achievements have been made in combating child labor and promoting basic education, there is a need to link these efforts and address issues related to the provision of education for children working or at risk of working.

The current National Development Plan for 2001-2004 includes universal primary education as a goal. From 1991 to 1998, primary net enrollment rates in the Philippines increased from 85 percent to 96 percent. The increase in enrollment rates reflects the government's commitment to providing universal primary education, but there are still challenges related to strengthening the quality and relevance of education, which is key to the retention of children in the school system. Currently, an estimated 69 percent of children who enter primary school in the Philippines reach grade 5.

In addition, the impact of education reforms has not yet been fully extended to children vulnerable to child labor. Even though formal education is free and compulsory for six years, families are often expected to shoulder other associated costs such as food, uniforms, school supplies, transportation, and, in some instances, fees for capital outlays or building maintenance (e.g., janitorial services, toilets, and electricity). With many parents' earnings falling below the poverty line, the inability of public schools to subsidize these extra costs places considerable economic strain on families. As a result, high costs to schooling limit access to education, negatively impact school attendance, and may contribute to the increase in the labor supply of children.

The Government of the Philippines is dedicated to the elimination of the worst forms of child labor within a specified period, and has committed to a Timebound Program to combat child labor. USDOL expects the funding provided by this award to address some of the educational challenges within the Timebound Program framework, and the applicant will support education activities undertaken as part of USDOL's funding of the Philippines Timebound Program, which is being implemented through ILO/IPEC. These education activities must complement and reinforce the existing Timebound strategy, but not duplicate efforts already funded by USDOL through ILO/IPEC.

Direct services of the already-funded ILO-IPEC education component of the Timebound Program will concentrate primarily on the provision of non-formal, transitional and vocational education to children withdrawn from work and those at-risk of working in the sectors targeted by the Timebound Program. These activities correspond to gaps identified in the existing system. For example, until very recently, the Department of Education's Bureau of Non-Formal Education only offered non-formal education programs to out-of-school youths aged 15 and above. Although it is currently preparing to offer non-formal education to children ages 6 to 14, the Bureau lacks the funds to develop appropriate curricula and learning modules. An additional challenge to providing transitional education is that children in non-formal programs frequently experience difficulty mainstreaming into formal education, such as passing an equivalency test required for re-entry in formal schooling.

Uganda

An ILO-IPEC child labor report based on the 2000-2001 Uganda Demographic and Health Survey estimated the total number of working children aged 5 to 17 years in the country at 2.9 million, accounting for 34.2 percent of all children in this age group. Furthermore, the report estimated that more than half of all working children in Uganda are aged 10-14 years. The Ministry of Gender, Labour and Social Development (MGLSD) has drafted a national policy and plan of action to combat the worst forms of child labor, including children engaged in commercial agriculture, fishing, domestic labor, the informal sector, street activities, commercial sexual exploitation, construction sector, and children in armed conflicts.

USDOL has targeted several of these sectors through programs implemented by ILO/IPEC. USDOL has also financed surveys on child labor in Uganda. Recognizing that forced and compulsory recruitment of children in armed conflict is a worst form of child labor as identified in ILO Convention 182, USDOL, through funding provided by this solicitation, seeks to support the education needs of this population in northern Uganda.

In addition to the MGLSD, the Ministry of Education has been engaged in efforts to eliminate the worst forms of child labor. In 1997 this ministry instituted a policy of Universal Primary Education (UPE) to make formal schooling more affordable and thus more available to students in Uganda. Since the implementation of this policy, enrollment has increased dramatically, from 3.4 million in 1996 to 7.2 million in 2002.

Unfortunately, much of the success of this program has been concentrated in the south. Sixteen years of war in northern Uganda has hindered the full implementation of UPE, and has created enormous barriers for young people living in these areas to gain access to and complete quality primary education. Since the birth of the Lord's Resistance Army's (LRA) rebel campaign in 1986, between 10,000-15,000 Ugandan children have been abducted to serve as porters and soldiers for this rebel group. Abducted girls often suffer the added trauma of rape, and are frequently given to rebel commanders as sexual slaves.

In addition, at least half of the population living in areas of conflict in northern Uganda (a majority of whom are adolescents and children) is internally displaced. Escalated LRA attacks since the beginning of 2000 have forced an increasing number of people to seek refuge in Internally Displaced Persons' (IDP) Camps called “Protected Villages,” or, alternatively, in the towns of Gulu and Kitgum. According to the World Food Program (WFP), 26.4 percent of the IDPs living in camps are children aged five to 14 years old. The majority of these children have been out of school since the conflict escalated in July 1996. Although national primary enrollment averages 95 percent for all children aged six to 13 years, less than 30 percent of school-age children in IDP camps are currently enrolled on a full-time basis, with young girls especially affected.

According to the Uganda People's Defense Forces (UPDF) Fourth Division Commander in Gulu, over 300,000 children in northern Uganda are unable to go to school at present. Low enrollment and retention in war-affected areas is the result of several complex and interrelated factors. Stress levels among children have dramatically increased because of displacement, separation, death, violence, abduction and sexual abuse. For formerly abducted children and child soldiers this trauma is particularly acute. Girls are especially affected, as they often return from captivity with babies. In addition, both former child soldiers and war-affected children returning to school after a long absence find themselves in the difficult position of being older than their classmates and having missed years of schooling. This situation leads them to either not return to school, or to drop out after they re-enroll.

Despite government incentives to local teachers and a teacher training college located in Gulu, northern Uganda is also suffering from a shortage of educators. The few remaining teachers are often unequipped to accommodate the many special needs of their students. Furthermore, for many children, the cost of purchasing school supplies and the opportunity cost of attending school is too great. Although some young people have expressed an interest in learning skills or a trade, most technical training colleges require a level of academic achievement that former child soldiers and war-affected children have not attained. Furthermore, many young people lack the basic literacy skills needed to succeed in formal training programs.

Nonetheless, the commitment to and desire for education among these young people and their communities is considerable. Education is often the top priority identified by communities immediately following an attack or displacement. The Government of Uganda has responded through the provision of several new policies and programs. The Ministry of Education has drafted strategies for working with children living in areas of conflict in a Basic Education Policy and Costed Framework For Educationally Disadvantaged Children. The policy aims to increase community participation in education; strengthen linkages between formal and non-formal education; improve education quality by ensuring appropriate infrastructure and curriculum content and methodology, and provide appropriate learning materials. The Ministry of Education and the Ministry of Gender, Labour, and Social Development have established a multi-agency working group to address the needs of children who have suffered from armed conflict. Several international and local NGOs have also developed programs focusing on the rehabilitation and reintegration of former child soldiers and war-affected children.

However, there is a great need to expand and improve upon efforts to educate and train former child soldiers and war-affected children. The work undertaken by government entities and international and local NGOs working on the ground provide a solid foundation, but gaps remain in current efforts to provide access to quality education. Areas requiring further development include: (1) Non-formal education, catch-up classes, and basic literacy training (2) skills and vocational training, (3) teacher training and recruitment, (4) the development of appropriate curricula, materials and teaching methods and the provision of school supplies, and (5) community mobilization and sensitization to meet the education needs and psychosocial needs of children and adolescents in northern Uganda. The funding provided by this solicitation encourages applicants to propose solid approaches that will address these needs.

Given the complex unique social situation of these children, USDOL encourages collaboration with programs in northern Uganda working on issues of poverty, health and nutrition, community development, peace and security. USDOL encourages models that work within existing government structures and national plans of action. USDOL seeks to fund sustainable programs that provide for the emerging educational needs of these children as northern Uganda transitions towards peace. Applicants should be ready to adapt services to accommodate the fluidity and constantly changing nature of the security situation, and related migration flows.

IV. Requirements

A. Statement of Work

Taking into account the challenges to educating working children in each country of interest, the applicant shall propose and implement creative and innovative approaches to provide educational opportunities to children engaged in or removed from child labor, particularly the worst forms. The expected outcomes/results of the project are to: (1) Increase educational opportunities (enrollment) for children who are engaged in, at risk of, and/or removed from child labor, particularly its worst forms; (2) encourage retention in, and completion of educational programs; and (3) expand the successful transition of children in non-formal education into formal schools or vocational programs.

In the course of implementation, each project shall promote the goals of USDOL's Child Labor Education Initiative listed in Section III.A above. Because of the limited available resources under this award, applicants should implement programs that complement existing efforts and, where appropriate, replicate or enhance successful models to serve expanded numbers of children and communities. In order to avoid duplication, enhance collaboration, expand impact, and develop synergies, the grant awardee (hereafter referred to as “Grantee”) should work cooperatively with national stakeholders in developing project interventions.

Although USDOL is open to all proposals for innovative solutions to address the challenges of providing increased access to education to the children targeted, the applicant must, at a minimum, prepare responses following the outline of a preliminary project document presented in Appendix A. This response will be the foundation for the final project document that will be approved after award of the grant.

Note To Timebound Applicants: In preparing responses for the Dominican Republic and the Philippines, the applicant should be aware that the funding provided by this award is part of USDOL commitments to comprehensive and integrated Timebound Programs to prevent and remove children from the worst forms of child labor. The Grantee will be required to integrate and closely coordinate the project's interventions with the strategies and activities developed by the ILO/IPEC and the Governments of the Dominican Republic and the Philippines.

Achieving seamless integration between program components will require working with the same target groups/number of children, to the greatest degree possible with the same children, and in the same geographical areas identified in the ILO-IPEC Timebound Program documents. Applicants are strongly encouraged to read and become familiar with the design elements of the Timebound Programs funded through ILO/IPEC in the Dominican Republic and the Philippines before preparing a response to this solicitation, and strengthen the quality rather than duplicate activities that are already being funded. Applicants should carefully study the ILO/IPEC Timebound project documents in the Dominican Republic and the Philippines available at http://www.dol.gov/ILAB/grants/education/SGA0301/bkgrdSGA0301.htm to become familiar with the education interventions ILO/IPEC will be implementing before proposing their own. Applicants should avoid duplicating activities being carried out by ILO/IPEC, but are highly encouraged to propose approaches that could complement and improve the quality and impact of ILO/IPEC education interventions.

In the Philippines, target children include those at risk of work or working in agriculture, deep-sea fishing, domestic service, commercial sexual exploitation, mining and quarrying, and pyrotechnics. The geographical coverage of the program in the Philippines will include the following regions and provinces: Region III (Bulacan), Region V (Camaranies Norte), Region VI (Ilo Ilo and Negros Occidental), Region VII (Negros Oriental and Cebu), Region XI (Davao), and the National Capital Region (Metro Manila). Applicants are strongly encouraged to focus their major interventions in facilitating mainstreaming into formal education for children withdrawn from work or at risk of working; strengthening formal education to prevent drop out of identified vulnerable children into child labor; and providing an approach to improve quality in non-formal education so as to better transition children removed from child labor to formal education or vocational options.

In the Dominican Republic, the Consejo Nacional de Trabajo (The National Committee on the Eradication of Child Labor) has defined specific geographic areas for the Timebound Program: Santo Domingo, Duarte, La Vega, Maria Trinidad Sanchez, Monseñor Nouel, Puerto Plata, Sanchez-Ramirez and Saman . Also, child labor Timebound Program activities aimed at the worst forms of child labor are already underway in Boca Chica and Constanza. The Committee has defined commercial sexual exploitation, hazardous informal work, and hazardous agricultural activities as the worst forms of child labor. Approaches should address the gaps and barriers to education faced by children in these forms of employment in the Dominican Republic.

In Timebound Programs, key personnel will work closely with the ILO/IPEC's National Program Manager and the Timebound Program Chief Technical Adviser, and as appropriate, with staff of the national government in developing project interventions.

Note to All Applicants: The Grantee is expected to consult with and work cooperatively with stakeholders in the countries, including the Ministries of Education and Labor, NGOs, national steering/advisory committees on child labor education, faith-based organizations, and working children and their families. Where practical, there should be efforts to work with existing projects, particularly those funded by USDOL.

B. Deliverables

In addition to meeting the above requirements, the Grantee will be expected to monitor the implementation of the program, report to USDOL on a quarterly basis, and undergo evaluation of program results. Guidance on USDOL procedures and management requirements will be provided to the Grantee in written Management Procedures and Guidelines (MPG) after award. The project budget must include funds to plan, implement and evaluate programs and activities, conduct various studies pertinent to project implementation, to establish education baselines to measure program results, and travel to meet with USDOL officials in Washington at yearly intervals. Corresponding indicators of performance will also be developed by the Grantee and approved by USDOL. Unless otherwise indicated, the Grantee must submit copies of all required reports to ILAB by the specified due dates. Specific deliverables are the following:

1. Project Design Document

The Grantee will prepare a preliminary project document in the format described in Appendix A, with design elements linked to a logical framework matrix. See http://www.dol.gov/ILAB/grants/education/SGA0301/bkgrdSGA0301.htm for a worked example. The project document will include a background/justification section, project strategy (goal, purpose, outputs, activities, indicators, means of verification, assumptions), project implementation timetable and project budget. The narrative will address the criteria/themes described in Section V.B.1 below Program Design/Budget-Cost Effectiveness. The final project design document will be based on the application written in response to this solicitation, but will include the results of additional consultation with stakeholders, partners, and ILAB. The document will also include sections that address coordination strategies, project management and sustainability. The final project document will be delivered three months after the time of the award.

2. Technical and Financial Progress Reports

The format for the technical progress report will be provided in the MPG distributed after the award. The Grantee must furnish a typed technical report to ILAB on a quarterly basis by 31 March, 30 June, 30 September, and 31 December. Technical reports will include:

a. For each project objective, an accurate account of activities carried out under that objective during the reporting period;

b. A description of current problems that may impede performance, and proposed corrective action;

c. Future actions planned in support of each project objective;

d. Aggregate amount of costs incurred during the reporting period relative to each objective; and

e. Progress on common Government Performance and Results Act indicators (to be reported semi-annually) to be provided to Grantees after award.

The Grantee must also furnish separate financial reports (SF 272 and 269) to ILAB on the quarterly basis mentioned above.

3. Annual Work Plan

An annual work plan will be developed within three months of project award and approved by ILAB so as to ensure coordination with other relevant social actors in the country. Subsequent annual work plans will be delivered no later than one year after the previous one.

4. Performance Monitoring and Evaluation Plan

A performance monitoring and evaluation plan will be developed, in collaboration with ILAB, including beginning and ending dates for the project, planned and actual dates for mid-term review, and final end of project evaluations. The performance monitoring plan will be developed in conjunction with the logical framework project design and common indicators for GPRA reporting selected by ILAB. Baseline data collection will be tied to the indicators of the project design document and the performance monitoring plan. A draft monitoring and evaluation plan will be submitted to ILAB within four months of project award.

5. Project Evaluation

The Grantee and the Grant Officer's Technical Representative (GOTR) will determine on a case-by-case basis whether mid-term evaluations will be conducted by an internal or external evaluation team. All final evaluations will be external in nature. The Grantee must respond in writing to any comments and recommendations resulting from the review of the mid-term report. The budget must include the projected cost of mid-term and final evaluations.

C. Production of Deliverables

1. Materials Prepared Under the Cooperative Agreement

The Grantee must submit to ILAB all media-related and educational materials developed by it or its sub-contractors before they are reproduced, published, or used. ILAB considers that education materials include brochures, pamphlets, videotapes, slide-tape shows, curricula, and any other training materials used in the program. ILAB will review materials for technical accuracy. The Grantee must obtain prior approval from the Grant's Officer Technical Representative for all materials developed or purchased under this grant. All materials produced by the Grantee must be provided to ILAB in digital format for possible publication by ILAB.

2. Acknowledgement of USDOL Funding

In all circumstances, the following must be displayed on printed materials:

“Preparation of this item was funded by the United States Department of Labor under Cooperative Agreement No. E-9-X-X-XXXX.”

When issuing statements, press releases, requests for proposals, bid solicitations, and other documents describing projects or programs funded in whole or in part with Federal money, all Grantees receiving Federal funds, including State and local governments and recipients of Federal research grants, must clearly state:

a. The percentage of the total costs of the program or project that will be financed with Federal money;

b. The dollar amount of Federal funds for the project or program; and

c. The percentage and dollar amount of the total costs of the project or program that will be financed by non-governmental sources.

In consultation with ILAB, USDOL will be acknowledged in one of the following ways:

a. The USDOL logo may be applied to USDOL-funded material prepared for worldwide distribution, including posters, videos, pamphlets, research documents, national survey results, impact evaluations, best practice reports, and other publications of global interest. The Grantee must consult with USDOL on whether the logo may be used on any such items prior to final draft or final preparation for distribution. In no event will the USDOL logo be placed on any item until USDOL has given the Grantee written permission to use the logo on the item.

b. If ILAB determines that the use of the logo is not appropriate and written permission is not given, the following notice must appear on the document: “This document does not necessarily reflect the views or policies of the U.S. Department of Labor, nor does mention of trade names, commercial products, or organizations imply endorsement by the U.S. Government.”

D. Administrative Requirements

1. General

Grantee organizations are subject to applicable U.S. Federal laws (including provisions of appropriations law) and the applicable Office of Management and Budget (OMB) Circulars. Determinations of allowable costs will be made in accordance with the applicable U.S. Federal cost principles. The grantee will also be required to submit to a bi-annual independent audit, and costs for such an audit should be included in direct or indirect costs, whichever is appropriate.

The grant awarded under this SGA is subject to the following administrative standards and provisions, if applicable:

29 CFR Part 36—Federal Standards for Nondiscrimination on the Basis of Sex in Education Programs or Activities Receiving Federal Financial Assistance.

29 CFR Part 93—New Restrictions on Lobbying.

29 CFR Part 95—Uniform Administrative Requirements for Grants and Agreements with Institutions of Higher Education, Hospitals and other Non-Profit Organizations, and with Commercial Organizations, Foreign Governments, Organizations Under the Jurisdiction of Foreign Governments and International Organizations.

29 CFR Part 96—Federal Standards for Audit of Federally Funded Grants, Contracts and Agreements.

29 CFR Part 98—Federal Standards for Government-wide Debarment and Suspension (Nonprocurement) and Government-wide Requirements for Drug-Free Workplace (Grants).

29 CFR Part 99—Federal Standards for Audits of States, Local Governments, and Non-Profit Organizations.

Applicants are reminded to budget for compliance with the administrative requirements set forth. This includes the cost of performing administrative activities such as financial audit, closeout, evaluation, document preparation, as well as compliance with procurement and property standards. Copies of all regulations referenced in this SGA are available at no cost, on-line, at www.dol.gov.

2. Sub-Contracts

Sub-contracts must be awarded in accordance with 29 CFR 95.40-48. In compliance with Executive Orders 12876, as amended, 13230, 12928 and 13021, as amended, the Grantee is strongly encouraged to provide sub-contracting opportunities to Historically Black Colleges and Universities, Hispanic-Serving Institutions and Tribal Colleges and Universities.

3. Key Personnel

The applicant shall list an individual(s) who has been designated as having primary responsibility for the conduct and completion of all project work. The applicant must submit written proof that key personnel will be available to begin work on the project no later than three weeks after award. The Grantee agrees to inform the GOTR whenever it appears impossible for this individual(s) to continue work on the project as planned. The Grantee may nominate substitute personnel and submit the nominations to the GOTR; however, the Grantee must obtain prior approval from the Grant Officer for all key personnel. If the Grant Officer is unable to approve the personnel change, he/she reserves the right to terminate the grant.

4. Encumbrance of Grant Funds

Grant funds may not be encumbered/obligated by the Grantee before or after the period of performance. Encumbrances/obligations outstanding as of the end of the grant period may be liquidated (paid out) after the end of the grant period. Such encumbrances/obligations shall involve only specified commitments for which a need existed during the grant period and which are supported by approved contracts, purchase orders, requisitions, invoices, bills, or other evidence of liability consistent with the Grantee's purchasing procedures and incurred within the grant period. All encumbrances/obligations incurred during the grant period shall be liquidated within 90 days after the end of the grant period, if practicable.

5. Site Visits

USDOL, through its authorized representatives, has the right, at all reasonable times, to make site visits to review project accomplishments and management control systems and to provide such technical assistance as may be required. If USDOL makes any site visit on the premises of the Grantee or a sub-contractor(s) under this grant, the Grantee shall provide and shall require its sub-contractors to provide all reasonable facilities and assistance for the safety and convenience of Government representatives in the performance of their duties. All site visits and evaluations shall be performed in a manner that will not unduly delay the work.

V. Review and Selection of Applicants for Award

A. The Review Process

USDOL will screen all applications to determine whether all required elements are present and clearly identifiable. Each complete application will be objectively rated by a technical panel against the criteria described in this announcement. Applicants are advised that panel recommendations to the Grant Officer are advisory in nature. The Grant Officer may elect to select a Grantee on the basis of the initial application submission; or, the Grant Officer may establish a competitive or technically acceptable range for the purpose of selecting qualified applicants. If deemed appropriate, following the Grant Officer's call for the preparation and receipt of final revisions of applications, the evaluations process described above will be repeated to consider such revisions. The Grant Officer will make final selection determination based on panel findings and consideration of factors that may be most advantageous to the Government, such as geographic distribution of the competitive applications, cost, the availability of funds and other factors. The Grant Officer's determination for award under this SGA is final.

Note: Selection of an organization as a grant recipient does not constitute approval of the grant application as submitted. Before the actual grant is awarded, USDOL may enter into negotiations about such items as program components, funding levels, and administrative systems in place to support grant implementation. If the negotiations do not result in an acceptable submission, the Grant Officer reserves the right to terminate the negotiation and decline to fund the application. Award is also contingent upon signature of a letter of agreement between USDOL and relevant ministries in target countries.

B. Rating Criteria and Selection

The technical panel will review applications written in the specified format (see Section III.B and Appendix A) against the various criteria on the basis of 100 points. Five additional points will be given for non-federal or leveraged resources. Applicants are requested to prepare their written response (45 page maximum) on the basis of the following rating factors, which are presented in the order of emphasis that they will receive.

Program Design/Budget-Cost Effectiveness—45 points

Organizational Capacity—30 points

Management Plan/ Key Personnel/ Staffing—25 points

Leveraging—5 extra points

1. Project/Program Design/Budget-Cost Effectiveness (45 points)

This part of the application constitutes the preliminary project document described in section IV.B.1 and outlined in Appendix A. (Note: The supporting logical framework matrix will not count in the 45-page limit but should be included as an annex to the project document. To guide applicants, a sample logical framework matrix for a hypothetical child labor education project is available at http://www.dol.gov/ILAB/grants/education/SGA0301/bkgrdSGA0301.htm. The applicant should describe in detail the proposed approach to comply with each requirement in Section IV.A of this solicitation.

This component of the application should demonstrate the applicant's thorough knowledge and understanding of the issues, barriers and challenges involved in providing education to children engaged in or at risk of engaging in child labor, particularly its worst forms; best-practice solutions to address their needs; and the implementing environment in the selected country. When complying with the project document outline, the applicant should at minimum include a description of:

• Children Targeted—The applicant will identify which and how many children will benefit from the project, including the sectors in which they work, geographical location, and other relevant characteristics. Note: Timebound country applicants must target the sectors, geographical areas, and children identified in Timebound Project documents.

• Needs/Gaps/Barriers—The applicant will describe the specific gaps/educational needs of the children targeted that the project will address.

• Proposed Strategy—The applicant will discuss the proposed strategy to address gaps/needs/barriers and its rationale.

• Description of Activities—The applicant will provide a detailed description of proposed activities that relate to the gaps/needs/barriers to be addressed including training and technical assistance to be provided to project staff, host country nationals, and community groups involved in the project. Ideally, the proposed approach should build upon existing activities, and government policies and plans and avoid needless duplication.

• Work Plan—The applicant will provide a detailed work plan and timeline for the proposed project, preferably with a visual such as a Gantt chart.

• Program Management and Performance Assessment—The applicant will describe: (1) How management will ensure that the goals and objectives will be met; (2) how information and data will be collected and used to demonstrate the impacts of the project; and (3) what systems will be put in place for self-assessment, evaluation and continuous improvement. USDOL has already developed common indicators and a database system for monitoring children's educational progress that can be used and adapted by Grantees after award so that they do not need to set up this type of system from scratch.

• Budget/Cost Effectiveness—The applicant will show how the budget reflects program goals and design in a cost-effective way so as to reflect budget/performance integration. The budget should be linked to the activities and outputs of the implementation plan listed above. This section of the application should explain the costs for performing all of the requirements presented in this solicitation, and for producing all required reports and other deliverables. Costs must include labor, equipment, travel, audits, evaluations, and other related costs. Preference may be given to applicants with low administrative costs, and all costs should be reported as they will become part of the cooperative agreement upon award. This section will be evaluated in accordance with applicable Federal laws and regulations. The budget must comply with Federal cost principles (which can be found in the applicable OMB Circulars) and with ILAB budget requirements contained in the application instructions in Section III of this solicitation. Applicants are advised that customs and Value Added Tax (VAT) exemptions may not be allowed, and should take into account such costs in budget preparation. If major costs are omitted, the Grantee may not be allowed to include them later.

2. Organizational Capacity (35 points)

The applicant should present the qualifications of the organization(s) implementing the program/project. The evaluation criteria in this category are as follows:

a. International Experience—The organization applying for the award has international experience implementing basic, transitional, non-formal or vocational education programs that address issues of access, quality, and policy reform for vulnerable children including children engaged in or at risk of child labor, preferably in the country of interest or neighboring countries.

b. Country Presence—An applicant must demonstrate a country presence, or the capability to establish a country presence, independently or through a relationship with another organization(s) with country presence, which gives it the capability to work directly with government ministries, educators, civil society leaders, and other local faith-based or community organizations. Applicants without country presence must provide evidence that legal country presence can be established within 90 days of award. For applicants that do not have independent country presence, documentation of the relationship with the organization(s) with such a presence must be provided, or the capacity to establish such a relationship within 90 days of award.

c. Fiscal Oversight—The organization shows evidence of a sound financial system. The results of the most current independent financial audit must accompany the application, and applicants without one will not be considered.

d. Coordination—If two or more organizations are applying for the award in the form of a partnership, they must demonstrate an approach to ensure the successful collaboration including clear delineation of respective roles and responsibilities. The applicants must also identify the lead organization (Grantee) and submit the partnership agreement. Partners of the Grantee will be designated as contractors or sub-contractors.

The application must include information about previous grant or contracts of the applicant and partners that are relevant to this solicitation including:

1. The organizations for which the work was done;

2. A contact person in that organization with their current phone number;

3. The dollar value of the grant, contract, or cooperative agreement for the project;

4. The time frame and professional effort involved in the project;

5. A brief summary of the work performed; and

6. A brief summary of accomplishments.

This information on previous grants and contracts held by the applicant and partners shall be provided in appendices and will not count in the maximum page requirement.

3. Management/Plan/Key Personnel/Staffing (25 points)

Successful performance of the proposed work depends heavily on the management skills and qualifications of the individuals committed to the project. Accordingly, in its evaluation of each application, USDOL will place emphasis on the applicant's management approach and commitment of personnel qualified for the work involved in accomplishing the assigned tasks. This section of the application must include sufficient information to judge management and staffing plans, and the experience and competence of program staff proposed for the project to assure that they meet the required qualifications. Information provided on the experience and educational background of personnel should include the following:

a. The identity of key personnel assigned to the project. “Key personnel” are staff who are essential to the successful operation of the project and completion of the proposed work and, therefore, may not be replaced or have hours reduced without the approval of the Grant Officer.

b. The educational background and experience of all staff to be assigned to the project.

c. The special capabilities of staff that demonstrate prior experience in organizing, managing and performing similar efforts.

d. The current employment status of staff and availability for this project. The applicant must also indicate whether the proposed work will be performed by persons currently employed or is dependent upon planned recruitment or sub-contracting.

Note that management and professional technical staff members comprising the applicant's proposed team should be individuals who have prior experience with organizations working in similar efforts, and are fully qualified to perform work specified in the Statement of Work. Where sub-contractors or outside assistance are proposed, organizational control should be clearly delineated to ensure responsiveness to the needs of USDOL. Key personnel must sign letters of agreement to serve on the project, and indicate availability to commence work within three weeks of grant award.

In this section, the following information must be furnished:

a. Key personnel—For each country for which an application is submitted, the applicant must designate the key personnel listed below. If key personnel are not designated, the application will not be considered.

i. A Project Director (Key Personnel) to oversee the project and be responsible for implementation of the requirements of the grant. The Program Director must have a minimum of three years of professional experience in a leadership role in implementation of complex basic education programs in developing countries in areas such as education policy; improving educational quality and access; educational assessment of disadvantaged students; development of community participation in the improvement of basic education for disadvantaged children, and monitoring and evaluation of basic education projects. Points will be given for candidates with additional years of experience including experience working with officials of ministries of education and/or labor. Preferred candidates will also have knowledge of child labor issues, and experience in the development of transitional, formal, and vocational education of children removed from child labor and/or victims of the worst forms of child labor. Fluency in English is required and working knowledge of the official language(s) spoken in the target countries is preferred.

ii. An Education Specialist (Key Personnel) who will provide leadership in developing the technical aspects of this project in collaboration with the Project Director. This person must have at least three years experience in basic education projects in developing countries in areas including student assessment, teacher training, educational materials development, educational management, and educational monitoring and information systems. This person must have experience in working successfully with ministries of education, networks of educators, employers' organizations and trade union representatives or comparable entities. Additional experience with child labor/education policy and monitoring and evaluation is an asset. Working knowledge of English preferred, as is a similar knowledge of official language(s) spoken in the target country.

b. Other Personnel—The applicant must identify other program personnel proposed to carry out the requirements of this solicitation.

c. Management Plan—The management plan must include the following:

i. A description of the functional relationship between elements of the project's management structure;

ii. The identity of the individual responsible for project management and the lines of authority between this individual and other elements of the project.

d. Staff Loading Plan—The staff loading plan must identify all key tasks and the person-days required to complete each task. Labor estimated for each task must be broken down by individuals assigned to the task, including sub-contractors and consultants. All key tasks should be charted to show time required to perform them by months or weeks.

e. Roles and Responsibilities—The applicant must include a resume and description of the roles and responsibilities of all personnel proposed. Resumes must be attached in an appendix. At a minimum, each resume must include: the individual's current employment status and previous work experience, including position title, duties, dates in position, employing organizations, and educational background. Duties must be clearly defined in terms of role performed, e.g., manager, team leader, consultant, etc. Indicate whether the individual is currently employed by the applicant, and (if so) for how long.

4. Leverage of Grant Funding (5 points)

The Department will give up to five (5) additional rating points to applications that include non-Federal resources that significantly expand the dollar amount, size and scope of the application. These programs will not be financed by the project, but can complement and enhance project objectives. Applicants are also encouraged to leverage activities such as micro-credit or income generation projects for adults that are not directly allowable under the grant. To be eligible for the additional points, the applicant must list the source(s) of funds, the nature, and possible activities anticipated with these funds under this grant and any partnerships, linkages or coordination of activities, cooperative funding, etc.

Signed at Washington, DC, this 21st day of March, 2003.
Lawrence J. Kuss,
Grant Officer.

Appendix A: Project Document Format

Executive Summary

1. Background and Justification

2. Target Groups

3. Program Approach and Strategy

3.1 Narrative of Approach and Strategy (and linked to Logical Framework matrix)

3.2 Project Implementation Timeline (Gantt Chart of Activities linked to Logical Framework)

3.3 Budget (with cost of Activities linked to Outputs for Budget Performance Integration)

4. Project Monitoring and Evaluation

4.1 Indicators and Means of Verification *

* Initial choice of and justification of indicators and means of verification can be refined and/or adapted after baseline collection and development of Monitoring and Evaluation Plan.

4.2 Baseline Data Collection Plan

5. Institutional and Management Framework

5.1 Institutional Arrangements for Implementation

5.2 Collaborating and Implementing Institutions (Partners) and Responsibilities

5.3 Other Donor or International Organization Activity and Coordination

5.4 Project Management Organizational Chart

6. Inputs

6.1 Inputs provided by the DOL

6.2 Inputs provided by the Grantee

6.3 National and/or Other Contributions

7. Sustainability

Annex A: Full presentation of the Applicant's Logical Framework matrix

(A worked example of a Logical Framework matrix and other background documentation for this SGA are available from the ILAB Web site at http://www.dol.gov/ILAB/grants/education/SGA0301/bkgrdSGA0301.htm.)

[FR Doc. 03-7482 Filed 3-27-03; 8:45 am]

BILLING CODE 4510-28-U